NUCLEAR REGULATORY COMMISSION

[NRC-2009-0276; NRC-2009-0275; NRC-2009-0274; NRC-2009-0277]

Draft Regulatory Guides: Granting Extension of Comment Period

AGENCY: Nuclear Regulatory Commission.

ACTION: Notice of Granting of Request to Extend the Comment Period of Draft Regulatory Guide (DG)-1221, “Control of Stainless Steel Weld Cladding of Low-Alloy Steel Components;” DG-1222, “Control of Preheat Temperature for Welding of Low-Alloy Steel;” DG-1223, “Control of Electroslag Weld Properties;” and DG-1224, “Control of the Processing and Use of Stainless Steel.”

FOR FURTHER INFORMATION CONTACT: Jeffrey Hixon, U.S. Nuclear Regulatory Commission, Washington, DC 20555-0001, telephone: (301) 251-7639 or e-mail to Jeffrey.Hixon@nrc.gov.

SUPPLEMENTARY INFORMATION:

I. Introduction

The U.S. Nuclear Regulatory Commission (NRC) issued for public comment DG-1221, DG-1222, DG-1223, and DG-1224, which were published in the Federal Register, 74 FR 31991, 74 FR 31993, 74 FR 31993, and 74 FR 31992, respectively, on July 6, 2009. This series was developed to describe and make available to the public such information as methods that are acceptable to the NRC staff for implementing specific parts of the NRC's regulations, techniques that the staff uses in evaluating specific problems or postulated accidents, and data that the staff needs in its review of applications for permits and licenses.

II. Further Information

The NRC staff requested receipt of comments on DG-1221, DG-1222, DG-1223, and DG-1224 by August 31, 2009. Requests for technical information about DG-1221, DG-1222, DG-1223, and DG-1224 may be directed to the NRC contact, Jeffrey Hixon at (301) 251-7639 or e-mail Jeffrey.Hixon@nrc.gov.

Electronic copies of DG-1221, DG-1222, DG-1223, and DG-1224 are available through the NRC's public Web site under Draft Regulatory Guides in the “Regulatory Guides” collection of the NRC's Electronic Reading Room at http://www.nrc.gov/reading-rm/doc-collections/. Electronic copies of DG-1221, DG-1222, DG-1223, and DG-1224 are also available in ADAMS (http://www.nrc.gov/reading-rm/adams.html), under Accession Nos. ML090750044, ML090750343, ML090750626, and ML090750744, respectively.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

III. Request To Extend the Comment Period

Basis for the Request

The NRC received the following extension request:

In a letter, dated August 6, 2009, the Nuclear Energy Institute requested that the public review and comment period on DG-1221, DG-1222, DG-1223, and DG-1224 be extended to October 1, 2009. NEI requested a 30-day extension of the public comment period on these draft guides until October 1, 2009, to allow adequate time to complete and document their review.

Response to Request

By this action, the NRC staff is extending the comment period until October 1, 2009. Comments received after October 1, 2009, would be considered if practical to do so but the NRC is able to ensure consideration only for comments received on or before October 1, 2009. Although a time limit is given, comments and suggestions in connection with items for inclusion in guides currently being developed or improvements in all published guides are encouraged at any time.

Comments submitted in writing or in electronic form will be made available to the public in their entirety through the NRC's Agencywide Documents Access and Management System (ADAMS).

Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any of the following methods:

1. Mail comments to: Rulemaking and Directives Branch, Mail Stop: TWB-05-B01M, Office of Administration, U.S. Nuclear Regulatory Commission, Washington, DC 20555-0001.

2. Federal e-Rulemaking Portal: Go to http://www.regulations.gov and search for documents filed under Docket ID [NRC-2009-0276, NRC-2009-0275, NRC-2009-0274 and NRC-2009-0277]. Address questions about NRC dockets to Carol Gallagher, 301-492-3668; e-mail Carol.Gallagher@nrc.gov.

3. Fax comments to: Rulemaking and Directives Branch, Office of Administration, U.S. Nuclear Regulatory Commission at (301) 492-3446.

Dated at Rockville, Maryland, this 11th day of August 2009.
For the Nuclear Regulatory Commission.
John N. Ridgely,
Acting Chief, Regulatory Guide Development Branch, Division of Engineering, Office of Nuclear Regulatory Research.

[FR Doc. E9-19997 Filed 8-19-09; 8:45 am]

BILLING CODE 7590-01-P